DEPARTMENT OF COMMERCE

Foreign-Trade Zones Board

[B-84-2012]

Foreign-Trade Zone 7—Mayaguez, Puerto Rico, Authorization of Production Activity, Pepsi Cola Puerto Rico Distributing, LLC (Soft Drink and Fruit Drink Beverages), Toa Baja, Puerto Rico

On November 5, 2012, the Puerto Rico Industrial Development Company, grantee of FTZ 7, submitted a notification of proposed production activity to the Foreign-Trade Zones (FTZ) Board on behalf of Pepsi Cola Puerto Rico Distributing, LLC, in Toa Baja, Puerto Rico.

The notification was processed in accordance with the regulations of the FTZ Board (15 CFR part 400), including notice in the Federal Register inviting public comment (77 FR 70417, 11-26-2012). The FTZ Board has determined that no further review of the activity is warranted at this time. The production activity described in the notification is authorized, subject to the FTZ Act and the Board's regulations, including Section 400.14.

Dated: March 5, 2013.
Andrew McGilvray,
Executive Secretary.

[FR Doc. 2013-05801 Filed 3-14-13; 8:45 am]

BILLING CODE P